DEPARTMENT OF TRANSPORTATION

Federal Aviation Administration

14 CFR Part 71

[Docket No. FAA-2016-8827; Airspace Docket No. 16-ASW-12]

Amendment of Amendment of Class D and E Airspace for the Following Texas Towns; Georgetown, TX; Corpus Christi, TX; Dallas/Fort Worth, TX; Gainesville, TX; Graford, TX; Hebbronville, TX; and Jasper, TX

AGENCY: Federal Aviation Administration (FAA), DOT.

ACTION: Final rule.

SUMMARY: This action modifies Class D airspace at Georgetown Municipal Airport, Georgetown, TX, and Class E airspace extending upward from 700 feet above the surface at Rockport Aransas County Airport, Corpus Christi, TX; Lancaster Airport, Dallas/Fort Worth, TX; Gainesville Municipal Airport, Gainesville, TX; Georgetown Municipal Airport, Georgetown, TX; (Hebbronville, TX) O.S. Wyatt Airport, Realitos, TX; and Jasper County-Bell Field, Jasper, TX. Decommissioning of non-directional radio beacons (NDB), cancellation of NDB approaches, and implementation of area navigation (RNAV) procedures have made this action necessary for the safety and management of Instrument Flight Rules (IFR) operations at the above airports. This action also updates the geographic coordinates for Corpus Christi International Airport; the Corpus Christi VORTAC; Aransas County Airport, Rockport, TX; Nueces County Airport, Robstown, TX; Dallas/Fort Worth International Airport, Dallas/Fort Worth, TX; McKinney National Airport, McKinney, TX; Lancaster Airport; Bourland Field Airport, Fort Worth, TX; Jasper County-Bell Field; and Alfred C. `Bubba' Thomas (formerly San Patricio County Airport), Sinton, TX, to coincide with the FAA's aeronautical database. Also, the names of McCampbell-Porter Airport (formerly T.P. McCampbell Airport); McKinney National Airport (formerly Collin County Regional Airport); Ralph M. Hall/Rockwall Municipal Airport (formerly Rockwall Municipal Airport); and Alfred C. `Bubba' Thomas (formerly San Patricio County Airport) are being updated to coincide with the FAA's aeronautical database.

DATES: Effective 0901 UTC, March 2, 2017. The Director of the Federal Register approves this incorporation by reference action under Title 1, Code of Federal Regulations, part 51, subject to the annual revision of FAA Order 7400.11 and publication of conforming amendments.

ADDRESSES: FAA Order 7400.11A, Airspace Designations and Reporting Points, and subsequent amendments can be viewed online at http://www.faa.gov/air_traffic/publications/. For further information, you can contact the Airspace Policy Group, Federal Aviation Administration, 800 Independence Avenue SW., Washington, DC, 20591; telephone: 202-267-8783. The Order is also available for inspection at the National Archives and Records Administration (NARA). For information on the availability of FAA Order 7400.11A at NARA, call 202-741-6030, or go to http://www.archives.gov/federal_register/code_of_federal-regulations/ibr_locations.html.

FAA Order 7400.11A, Airspace Designations and Reporting Points, is published yearly and effective on September 15.

FOR FURTHER INFORMATION CONTACT: Jeffrey Claypool, Federal Aviation Administration, Operations Support Group, Central Service Center, 10101 Hillwood Parkway, Fort Worth, TX, 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it modifies Class D airspace at Georgetown Municipal Airport, Georgetown, TX; and modifies Class E airspace extending upward from 700 feet above the surface at Rockport Aransas County Airport, Corpus Christi, TX; Lancaster Airport, Dallas/Fort Worth, TX; Gainesville Municipal Airport, Gainesville, TX; Georgetown Municipal Airport, Georgetown, TX; O.S. Wyatt Airport, Realitos, TX; Jasper County-Bell Field, Jasper, TX.

History

On September 8, 2016, the FAA published in the Federal Register a notice of proposed rulemaking (NPRM), (81 FR 62041) Docket No. FAA-2016-8827, to modify Class D airspace at Georgetown Municipal Airport, Georgetown, TX; and Class E airspace extending upward from 700 feet above the surface at Rockport Aransas County Airport, Corpus Christi, TX; Lancaster Airport, Dallas/Fort Worth, TX; Gainesville Municipal Airport, Gainesville, TX; Georgetown Municipal Airport, Georgetown, TX; O.S. Wyatt Airport, Realitos, TX; Jasper County-Bell Field, Jasper, TX.

Subsequent to publication, the FAA discovered that the geographic coordinates for and name of San Patricio County Airport, Sinton, TX, were updated to Alfred C. `Bubba' Thomas Airport, Sinton, TX. Also updated subsequent to publication were the geographic coordinates for Corpus Christi International Airport, Corpus Christi, TX. These have been updated in this action to coincide with the FAA's aeronautical database.

Interested parties were invited to participate in this rulemaking effort by submitting written comments on the proposal to the FAA. No comments were received.

Class D and E airspace designations are published in paragraph 5000, 6002, 6003, and 6005, respectively, of FAA Order 7400.11A, dated August 3, 2016, and effective September 15, 2016, which is incorporated by reference in 14 CFR 71.1. The Class D and E airspace designations listed in this document will be published subsequently in the Order.

Availability and Summary of Documents for Incorporation by Reference

This document amends FAA Order 7400.11A, Airspace Designations and Reporting Points, dated August 3, 2016, and effective September 15, 2016. FAA Order 7400.11A is publicly available as listed in the ADDRESSES section of this document. FAA Order 7400.11A lists Class A, B, C, D, and E airspace areas, air traffic service routes, and reporting points.

The Rule

This amendment to Title 14, Code of Federal Regulations (14 CFR) part 71 modifies:

Class D airspace within a 4.1-mile radius (reduced from a 5-mile radius) of Georgetown Municipal Airport, Georgetown, TX;

Class E airspace extending upward from 700 feet above the surface at Corpus Christi, TX;

Within a 6.6-mile radius (reduced from a 7.6-mile radius) of Aransas County Airport, Rockport, TX, with extensions to the north of the airport from the 6.6-mile radius to 10 miles, to the southeast of the airport from the 6.6-mile radius to 10 miles, to the south of the airport from the 6.6-mile radius to 10 miles, and to the northwest of the airport from the 6.6-mile radius to 10 miles, and updating the geographic coordinates of Corpus Christi International Airport (also located in Class E extension airspace), Nueces County Airport, Robstown, TX, and the name of McCampbell-Porter Airport (formerly T.P. McCampbell Airport) to coincide with the FAA's aeronautical database. The geographic coordinates for the Corpus Christi VORTAC, and the geographic coordinates and name of Alfred C. `Bubba' Thomas (formerly San Patricio County Airport), listed for Sinton, TX, are also updated to coincide with the FAA's aeronautical database.

Class E airspace extending upward from 700 feet above the surface at Dallas/Fort Worth, TX;

Within a 6.6-mile radius (increased from a 6.5-mile radius) of the Lancaster Airport, Lancaster, TX, with an extension southeast of the airport from the 6.6-mile radius to 9.2 miles and updating the geographic coordinates of the airport;

By updating the geographic coordinates of Dallas/Fort Worth International Airport, McKinney National Airport, and Bourland Field Airport, and the names of McKinney National Airport (formerly Collin County Regional Airport) and Ralph M. Hall/Rockwall Municipal Airport (formerly Rockwall Municipal Airport) to coincide with the FAA's aeronautical database;

By removing the 10.4-mile segment extending from the 6.6-mile radius of Gainesville Municipal Airport, Gainesville, TX;

Within a 6.6-mile radius (increased from a 6.5-mile radius) of Georgetown Municipal Airport, Georgetown, TX, with extensions to the northwest of the airport from the 6.6-mile radius to 9.8 miles, and to the north of the airport from the 6.6-mile radius to 10.4 miles.

Class E airspace extending upward from 700 feet above the surface at Hebbronville, TX; Within a 6.5-mile radius (reduced from a 6.9-mile radius) of O.S. Wyatt Airport, Realitos, TX;

And within a 6.6-mile radius (increased from a 6.5-mile radius) of Jasper County-Bell Field, Jasper, TX, with an extension to the north of the airport from the 6.6-mile radius to 6.7 miles, and updating the geographic coordinates of the airport to coincide with the FAA's aeronautical database.

Airspace reconfiguration is necessary due to the decommissioning of NDBs, cancellation of NDB approaches, and implementation of RNAV procedures at these airports for the safety and management of the standard instrument approach procedures for IFR operations at the airports.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11A, Airspace Designations and Reporting Points, dated August 3, 2016, and effective September 15, 2016, is amended as follows:

Paragraph 5000 Class D Airspace

* * * * *

ASW TX D Georgetown, TX [Amended]

Georgetown Municipal Airport, Texas

(Lat. 30°40′44″ N., long. 97°40′46″ W.)

That airspace extending upward from the surface to and including 3,300 feet MSL within a 4.1-mile radius of Georgetown Municipal Airport. This Class D airspace is effective during the specific dates and times established in advance by a Notice to Airmen. The effective date and time will thereafter be continuously published in the Airport/Facility Directory.

* * * * *

Paragraph 6002 Class E Airspace Designated as Surface Areas.

* * * * *

ASW TX E2 Rockport, TX [Amended]

Aransas County Airport, TX

(Lat. 28°05′10″ N., long. 97°02′37″ W.)

That airspace extending upward from the surface within a 4.1-mile radius of Aransas County Airport.

* * * * *

Paragraph 6003 Class E Airspace Areas Designated as an Extension.

* * * * *

ASW TX E3 Corpus Christi, TX [Amended]

Corpus Christi International Airport, TX

(Lat. 27°46′20″ N., long. 97°30′09″ W.)

Corpus Christi VORTAC

(Lat. 27°54′14″ N., long. 97°26′42″ W.)

That airspace extending upward from the surface within 1.3 miles each side of the 200° radial of the Corpus Christi VORTAC extending from a 5-mile radius of Corpus Christi International Airport to 6.4 miles north of the airport.

* * * * *

Paragraph 6005 Class E Airspace Areas Extending Upward From 700 Feet or More Above the Surface of the Earth.

* * * * *

ASW TX E5 Corpus Christi, TX [Amended]

Corpus Christi International Airport, TX

(Lat. 27°46′20″ N., long. 97°30′09″ W.)

Corpus Christi NAS/Truax Field, TX

(Lat. 27°41′34″ N., long. 97°17′25″ W.)

Port Aransas, Mustang Beach Airport, TX

(Lat. 27°48′43″ N., long. 97°05′20″ W.)

Rockport, San Jose Island Airport, TX

(Lat. 27°56′40″ N., long. 96°59′06″ W.)

Rockport, Aransas County Airport, TX

(Lat. 28°05′10″ N., long. 97°02′37″ W.)

Ingleside, McCampbell-Porter Airport, TX

(Lat. 27°54′47″ N., long. 97°12′41″ W.)

Robstown, Nueces County Airport, TX

(Lat. 27°46′41″ N., long. 97°41′24″ W.)

Corpus Christi VORTAC, TX

(Lat. 27°54′14″ N., long. 97°26′42″ W.)

That airspace extending upward from 700 feet above the surface within a 7.5-mile radius of Corpus Christi International Airport and within 1.4 miles each side of the 200° radial of the Corpus Christi VORTAC extending from the 7.5-mile radius to 8.5 miles north of the airport, and within 1.5 miles each side of the 316° bearing from Corpus Christi International Airport extending from the 7.5-mile radius to 10.1 miles northwest of the airport, and within 2 miles each side of the 179° bearing from Corpus Christi International Airport extending from the 7.5-mile radius to 14 miles south of the airport, and within an 8.8-mile radius of Corpus Christi NAS/Truax Field, and within a 6.3-mile radius of Mustang Beach Airport, and within a 6.4-mile radius of McCampbell-Porter Airport, and within a 6.3-mile radius of Nueces County Airport, and within a 6.6-mile radius of Aransas County Airport, and within 2 miles each side of the 010° bearing from the Aransas County Airport extending from the 6.6-mile radius to 10 miles north of the airport, and within 2 miles each side of the 145° bearing from the Aransas County Airport extending from the 6.6-mile radius to 10 miles southeast of the airport, and within 2 miles each side of the 190° bearing from the Aransas County Airport extending from the 6.6-mile radius to 10 miles south of the airport, and within 2 miles each side of the 325° bearing from the Aransas County Airport extending from the 6.6-mile radius to 10 miles northwest of the airport, and within a 6.5-mile radius of San Jose Island Airport, and within 8 miles west and 4 miles east of the 327° bearing from the San Jose Island Airport extending from the airport to 20 miles northwest of the airport, and within 8 miles east and 4 miles west of the 147° bearing from San Jose Island Airport extending from the airport to 16 miles southeast of the airport, excluding that portion more than 12 miles from and parallel to the shoreline.

* * * * *

ASW TX E5 Dallas/Fort Worth, TX [Amended]

Dallas/Fort Worth International Airport, TX

(Lat. 32°53′50″ N., long. 97°02′16″ W.)

McKinney, McKinney National Airport, TX

(Lat. 33°10′37″ N., long. 96°35′20″ W.)

Rockwall, Ralph M. Hall/Rockwall Municipal Airport, TX

(Lat. 32°55′50″ N., long. 96°26′08″ W.)

Mesquite, Mesquite Metro Airport, TX

(Lat. 32°44′49″ N., long. 96°31′50″ W.)

Mesquite NDB

(Lat. 32°48′34″ N., long. 96°31′45″ W.)

Mesquite Metro ILS Localizer

(Lat. 32°44′03″ N., long. 96°31′50″ W.)

Lancaster, Lancaster Airport, TX

(Lat. 32°34′39″ N., long. 96°43′03″ W.)

Point of Origin

(Lat. 32°51′57″ N., long. 97°01′41″ W.)

Fort Worth, Fort Worth Spinks Airport, TX

(Lat. 32°33′55″ N., long. 97°18′29″ W.)

Cleburne, Cleburne Regional Airport, TX

(Lat. 32°21′14″ N., long. 97°26′02″ W.)

Fort Worth, Bourland Field Airport, TX

(Lat. 32°34′55″ N., long. 97°35′27″ W.)

Granbury, Granbury Regional Airport, TX

(Lat. 32°26′40″ N., long. 97°49′01″ W.)

Weatherford, Parker County Airport, TX

(Lat. 32°44′47″ N., long. 97°40′57″ W.)

Bridgeport, Bridgeport Municipal Airport, TX

(Lat. 33°10′31″ N., long. 97°49′42″ W.)

Decatur, Decatur Municipal Airport, TX

(Lat. 33°15′15″ N., long. 97°34′50″ W.)

That airspace extending upward from 700 feet above the surface within a 30-mile radius of Dallas-Fort Worth International Airport, and within a 6.6-mile radius of McKinney National Airport, and within 1.8 miles each side of the 002° bearing from McKinney National Airport extending from the 6.6-mile radius to 9.2 miles north of the airport, and within a 6.3-mile radius of Ralph M. Hall/Rockwall Municipal Airport, and within 1.6 miles each side of the 010° bearing from Ralph M. Hall/Rockwall Municipal Airport extending from the 6.3-mile radius to 10.8 miles north of the airport, and within a 6.5-mile radius of Mesquite Metro Airport, and within 8 miles east and 4 miles west of the 001° bearing from Mesquite NDB extending from the 6.5-mile radius to 19.7 miles north of the airport, and within 1.7 miles each side of the Mesquite Metro ILS Localizer south course extending from the 6.5-mile radius to 11.1 miles south of the airport, and within a 6.6-mile radius of Lancaster Airport, and within 1.9 miles each side of the 140° bearing from Lancaster Airport from the 6.6-mile radius to 9.2 miles southeast of the airport, and within 8 miles northeast and 4 miles southwest of the 144° bearing from the Point of Origin extending from the 30-mile radius of Dallas/Fort Worth International Airport to 35 miles southeast of the Point of Origin, and within a 6.5-mile radius of Fort Worth Spinks Airport, and within 8 miles east and 4 miles west of the 178° bearing from Fort Worth Spinks Airport extending from the 6.5-mile radius to 21 miles south of the airport, and within a 6.9-mile radius of Cleburne Regional Airport, and within 3.6 miles each side of the 292° bearing from the airport extending from the 6.9-mile radius to 12.2 miles northwest of Cleburne Regional Airport, and within a 6.5-mile radius of Fort Worth's Bourland Field Airport, and within a 6.3-mile radius of Granbury Regional Airport, and within a 6.3-mile radius of Weatherford's Parker County Airport, and within 8 miles east and 4 miles west of the 177° bearing from Parker County Airport extending from the 6.3-mile radius to 21.4 miles south of the airport, and within a 6.3-mile radius of Bridgeport Municipal Airport, and within 1.6 miles each side of the 040° bearing from Bridgeport Municipal Airport extending from the 6.3-mile radius to 10.6 miles northeast of the airport, and within 4 miles each side of the 001° bearing from Bridgeport Municipal Airport extending from the 6.3-mile radius to 10.7 miles north of the airport, and within a 6.3-mile radius of Decatur Municipal Airport, and within 1.5 miles each side of the 263° bearing from Decatur Municipal Airport extending from the 6.3-mile radius to 9.2 miles west of the airport.

* * * * *

ASW TX E5 Gainesville, TX [Amended]

Gainesville Municipal Airport, TX

(Lat. 33°39′08″ N., long. 97°11′50″ W.)

That airspace extending upward from 700 feet above the surface within a 6.6-mile radius of Gainesville Municipal Airport.

* * * * *

ASW TX E5 Georgetown, TX [Amended]

Georgetown Municipal Airport, TX

(Lat. 30°40′44″ N., long. 97°40′46″ W.)

That airspace extending upward from 700 feet above the surface within a 6.6-mile radius of Georgetown Municipal Airport, and within 2.0 miles each side of the 301° bearing from the airport extending from the 6.6-mile radius to 9.8 miles northwest of the airport, and within 2 miles each side of the 004° bearing from the airport extending from the 6.6-mile radius to 10.4 miles north of the airport.

* * * * *

ASW TX E5 Hebbronville, TX [Amended]

Hebbronville, Jim Hogg County Airport, TX

(Lat. 27°20′58″ N., long. 98°44′13″ W.)

Realitos, O.S. Wyatt Airport, TX

(Lat. 27°25′18″ N., long. 98°36′16″ W.)

Hebbronville NDB

(Lat. 27°21′14″ N., long. 98°44′39″ W.)

That airspace extending upward from 700 feet above the surface within a 6.5-mile radius of Jim Hogg County Airport and within 2.5 miles each side of the 325° bearing from the Hebbronville NDB extending from the 6.5-mile radius to 7.5 miles northwest of the airport and within a 6.5-mile radius of O.S. Wyatt Airport.

* * * * *

ASW TX E5 Jasper, TX [Amended]

Jasper, Jasper County-Bell Field, TX

(Lat. 30°53′09″ N., long. 94°02′06″ W.)

That airspace extending upward from 700 feet above the surface within a 6.6-mile radius of Jasper County-Bell Field and within 1.6 miles each side of the 001° bearing from the airport from the 6.6-mile radius to 6.7 miles north of the airport.

* * * * *

ASW TX E5 Sinton, TX [Amended]

Alfred C. `Bubba' Thomas Airport, TX

(Lat. 28°02′19″ N., long. 97°32′33″ W.)

Corpus Christi VORTAC

(Lat. 27°54′14″ N., long. 97°26′42″ W.)

That airspace extending upward from 700 feet above the surface within a 6.4-mile radius of Alfred C. `Bubba' Thomas Airport and within 1.3 miles each side of the 328° radial of the Corpus Christi VORTAC extending from the 6.4-mile radius to 9.6 miles southeast of the airport.

Issued in Fort Worth, Texas, on November 16, 2016.
Walter Tweedy,
Acting Manager, Operations Support Group, ATO Central Service Center.

[FR Doc. 2016-28284 Filed 11-23-16; 8:45 am]

BILLING CODE 4910-13-P